DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to statute and a Memorandum of Understanding dated December 16, 2014, and executed by FHWA and TxDOT. The actions relate to various proposed highway projects in the State of Texas. Those actions grant licenses, permits, and approvals for the projects.

DATES: By this notice, TxDOT is advising the public of final agency actions subject to 23 U.S.C. 139(l)(1). A claim seeking judicial review of TxDOT and Federal agency actions on the highway project will be barred unless the claim is filed on or before January 21, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: Notice is hereby given that TxDOT and Federal agencies have taken final agency actions by issuing licenses, permits, and approvals for the highway projects in the State of Texas that are listed below.

The actions by TxDOT and Federal agencies and the laws under which such actions were taken are described in the Categorical Exclusion (CE) or Environmental Assessment (EA) issued in connection with the projects and in other key project documents. The CE or EA, and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. US 87 from US 54 to 0.19 miles north of US 385 in Dallam County. TxDOT, Amarillo District, proposes to improve the clearance on US 87 under the Union Pacific Railroad (UPRR) bridge in Dalhart. The proposed project would lower the elevation of US 87 under the railroad bridge up to two feet and add a detention facility to improve drainage particularly during flooding situations. The actions by TxDOT and Federal agencies and the laws under which such actions were taken are described in the Final Environmental Assessment (EA) approved on February 10, 2015, the Finding of No Significant Impact (FONSI) issued on February 10, 2015 and other documents in the TxDOT project file. The EA, FONSI, and other documents in the TxDOT project file are available by contacting TxDOT at the address provided above or the TxDOT Amarillo District Office at 5715 Canyon Drive, Amarillo, Texas 79110; telephone (806) 356-3200.

2. SL 335 from FM 2590 to SW 9th Avenue in Randall and Potter County. TxDOT, Amarillo District, proposes to upgrade existing roadways and a new location alignment to a controlled access facility including frontage roads, ramps, and bicycle and pedestrian accommodations. The project length is approximately 8 miles in length. The actions by TxDOT and Federal agencies and the laws under which such actions were taken are described in the Final Environmental Assessment (EA) approved on July 21, 2017, the Finding of No Significant Impact (FONSI) issued on July 21, 2017 and other documents in the TxDOT project file. The EA, FONSI, and other documents in the TxDOT project file are available by contacting TxDOT at the address provided above or the TxDOT Amarillo District Office at 5715 Canyon Drive, Amarillo, Texas 79110; telephone (806) 356-3200.

3. SL 335 from FM 2590 to Bell Street, and IH 27 at SL 335 Interchange in Randall County. TxDOT, Amarillo District, proposes to improve SL 335 in the southwest portion of the City of Amarillo. The improvements would include the conversion of SL 335 from a non-freeway to a freeway section with frontage roads, ramps, grade separations over intersection cross streets, a four main lane section, with a provision for future expansion to an ultimate six main lane section. The purpose of the proposed project is to develop an alternative freight corridor, provide a hazardous cargo route, and to improve traffic operations, mobility, safety, and connectivity through Amarillo. The actions by TxDOT and Federal agencies and the laws under which such actions were taken are described in the Final Environmental Assessment (EA) approved on May 1, 2015, the Finding of No Significant Impact (FONSI) issued on May 1, 2015 and other documents in the TxDOT project file. The EA, FONSI, and other documents in the TxDOT project file are available by contacting TxDOT at the address provided above or the TxDOT Amarillo District Office at 5715 Canyon Drive, Amarillo, Texas 79110; telephone (806) 356-3200.

4. SL 255 from FM 1520 to US 271 in Camp County. TxDOT, Atlanta District, proposes to construct a new location two-lane roadway, State Loop SL 255 (formerly referred to as Farm-to-Market Road FM 3535), near Pittsburg, Texas. The total length of the proposed project is approximately 2.45 miles with a proposed right-of-way (ROW) width of approximately 150 feet (ft.). The purpose of the project is to provide an efficient east-west roadway for the various users of the northern Camp County transportation system. The actions by TxDOT and Federal agencies and the laws under which such actions were taken are described in the Final Environmental Assessment (EA) approved on June 26, 2017, the Finding of No Significant Impact (FONSI) issued on June 26, 2017 and other documents in the TxDOT project file. The EA, FONSI, and other documents in the TxDOT project file are available by contacting TxDOT at the address provided above or the TxDOT Atlanta District Office at 701 East Main Street, Atlanta, Texas 75551; telephone (903) 799-1308.

5. I-35 from Rundberg Lane to US 290 East, Travis County. The project would include the addition of three direct connectors, collector-distributors to bypass the St. Johns Avenue signalized intersection, reconstruction of the St. Johns Avenue bridge and bicycle and pedestrian improvements. The project is approximately 1.6 miles in length. The actions by TxDOT and Federal agencies and the laws under which such actions were taken are described in the Final Environmental Assessment (EA) approved on August 1, 2016, the Finding of No Significant Impact (FONSI) issued on August 1, 2016, and other documents in the TxDOT project file. The EA, FONSI, and other documents in the TxDOT project file are available by contacting TxDOT at the address provided above or the TxDOT Austin District Office at 7901 North I-35, Austin, TX 78753; telephone (512) 832-7000.

6. FM 969 from FM 973 to Hunters Bend Road, Travis County. The project would include widening the existing two-lane roadway to four lanes, with a continuous two-way center turn lane, outside shoulders and a continuous sidewalk. The actions by TxDOT and Federal agencies and the laws under which such actions were taken are described in the Final Environmental Assessment (EA) approved on September 18, 2017, the Finding of No Significant Impact (FONSI) issued on September 18, 2017, and other documents in the TxDOT project file. The EA, FONSI, and other documents in the TxDOT project file are available by contacting TxDOT at the address provided above or the TxDOT Austin District Office at 7901 North I-35, Austin, TX 78753; telephone (512) 832-7000.

7. RM 2222 and RM 620 from RM 620 to Bonaventure Drive and Steiner Ranch Boulevard to RM 2222, Travis County. The project includes the addition of a northbound auxiliary lane on RM 620 from Steiner Ranch Blvd. to a 0.4 mile new arterial connector from RM 620 to RM 2222, improved operations at the RM 620/RM 2222/Bullick Hollow Road intersection, and improvements to RM 2222 from the new arterial connector to the RM 620/RM 2222/Bullick Hollow Road intersection. The actions by TxDOT and Federal agencies and the laws under which such actions were taken are described in the Final Environmental Assessment (EA) approved on April 4, 2018, the Finding of No Significant Impact (FONSI) issued on April 4, 2018, and other documents in the TxDOT project file. The EA, FONSI, and other documents in the TxDOT project file are available by contacting TxDOT at the address provided above or the TxDOT Austin District Office at 7901 North I-35, Austin, TX 78753; telephone (512) 832-7000.

8. US 59/I-69 from Fostoria Road near the Montgomery/Liberty County line to SL 573, Montgomery/Liberty County. This project intends to widen the existing four lane (two lanes in each direction) divided highway with no designated frontage roads to six lanes (three lanes in each direction) and one-way, two lane frontage roads. The project will also include installation of sidewalks on the outside of the southbound frontage road and the construction of 8-foot wide, shared use lanes for bicycles on the northbound and southbound frontage lanes. The project length is approximately 4.475 miles in length. The actions by TxDOT and Federal agencies and the laws under which such actions were taken are described in the Final Environmental Assessment (EA) approved on March 19, 2018, the Finding of No Significant Impact (FONSI) issued on March 23, 2018, and other documents in the TxDOT project file. The EA, FONSI, and other documents in the TxDOT project file are available by contacting TxDOT at the address provided above or the TxDOT Beaumont District Office at 8350 Eastex Freeway, Beaumont, TX 77708; telephone (409) 892-7311.

9. IH 20 from 3.5 miles east of LP 254 to SH 16 in Eastland County. TxDOT, Brownwood District, proposes to realign the interstate approximately 500 feet to the south of the existing alignment to alleviate the existing horizontal and vertical curvature. Two new continuous two-way frontage roads would be constructed on both sides of the new highway. The project length is approximately 3 miles in length. The proposed improvements would alleviate the safety hazards that contribute to the high frequency and severity of traffic incidents at Ranger Hill. The actions by TxDOT and Federal agencies and the laws under which such actions were taken are described in the Final Environmental Assessment (EA) approved on October 26, 2016, the Finding of No Significant Impact (FONSI) issued on October 26, 2016 and other documents in the TxDOT project file. The EA, FONSI, and other documents in the TxDOT project file are available by contacting TxDOT at the address provided above or the TxDOT Brownwood District Office at 2495 Highway 183 North, Brownwood, Texas 76802; telephone (325) 646-2591.

10. US 281 at Premont from 0.5 miles north of FM 1538 to 1.0 miles north of CR 431, Jim Wells County. The proposed project includes construction of an access controlled relief route around the city of Premont that meets interstate standards. This 5.17 mile long project would consist of two northbound and southbound 12-foot mainlanes with 10-foot outside shoulders and 4-foot inside shoulders, separated by a 48-foot grassy median. The project purpose is to develop US 281 to an Interstate facility that would meet Interstate design standards and improve safety in a manner that is sensitive to the environment and serves the access and mobility needs of the affected communities. The actions by TxDOT and Federal agencies and the laws under which such actions were taken are described in the Final Environmental Assessment (EA) approved on October 2, 2015, the Finding of No Significant Impact (FONSI) issued on October 2, 2015, and other documents in the TxDOT project file. The EA, FONSI, and other documents in the TxDOT project file are available by contacting TxDOT at the address provided above or the TxDOT Corpus Christi District Office at 1701 S. Padre Island Drive, Corpus Christi, TX 78416-1324; telephone (361) 808-2300.

11. Holly Road from SH 286 (Crosstown Expressway) to Greenwood Drive, Nueces County. The project would include constructing two additional travel lanes, providing a four lane curb and gutter facility with a raised median, sidewalks, and bicycle lanes along Holly Road from SH 286 (Crosstown Expressway) to Greenwood Drive in Corpus Christi, Nueces County, Texas, a distance of approximately 3,960 linear feet (0.75 mile). The purpose of the project is to improve mobility and enhance safety. The actions by TxDOT and Federal agencies and the laws under which such actions were taken are described in the Final Environmental Assessment (EA) approved on July 15, 2016, the Finding of No Significant Impact (FONSI) issued on July 15, 2016, and other documents in the TxDOT project file. The EA, FONSI, and other documents in the TxDOT project file are available by contacting TxDOT at the address provided above or the TxDOT Corpus Christi District Office at 1701 S. Padre Island Drive, Corpus Christi, TX 78416-1324; telephone (361) 808-2300.

12. SH 200 from SH 361 to FM 1069 in San Patricio County. SH 200 is proposed to be constructed as a principal arterial roadway to route commercial/industrial traffic around the southwestern portion of the city of Ingleside. The proposed project is approximately 1.98 miles in length, with an initial phase of construction of two 12-foot travel lanes and two 10-foot wide shoulders within a 160-foot wide right-of-way, and an ultimate build-out of four 12-foot wide travel lanes and two 10-foot wide shoulders. The actions by TxDOT and Federal agencies and the laws under which such actions were taken are described in the Final Environmental Assessment (EA) approved on August 26, 2016, the Finding of No Significant Impact (FONSI) issued on August 26, 2016, and other documents in the TxDOT project file. The EA, FONSI, and other documents in the TxDOT project file are available by contacting TxDOT at the address provided above or the TxDOT Corpus Christi District Office at 1701 S. Padre Island Drive, Corpus Christi, TX 78416-1324, telephone (361) 808-2300.

13. FM 2478 from US 380 to North of FM 1461 in Collin County, Texas. The proposed improvements would include the expansion of the existing facility from a two-lane rural to a six-lane urban divided roadway. Approximately 0.54 miles of FM 2478 would be realigned and constructed on new location from Rhea Mills Circle north to FM 1461. The length of the proposed project is approximately 3 miles. The purpose of the proposed project is to improve mobility and bring the roadway up to current design standards. The actions by TxDOT and Federal agencies and the laws under which such actions were taken are described in the Final Environmental Assessment (EA) approved on September 22, 2017, Finding of No Significant Impact (FONSI) issued on September 22, 2017, and other documents in the TxDOT project file. The EA, FONSI, and other documents in the TxDOT project file are available by contacting TxDOT at the address provided above or the TxDOT Dallas District Office at 4777 E. Highway 80, Mesquite, TX 75150; telephone (214) 320-6100.

14. FM 455 from West of FM 2450 to East of Mario Road, in Denton County. The project would reconstruct and widen FM 455 west of FM 2450 to east of Marion Road for an approximate distance of 5.53 miles. Proposed improvements would involve the expansion of FM455 from a two-lane rural highway to a four-lane. The actions by TxDOT and Federal agencies and the laws under which such actions were taken are described in the Final Environmental Assessment (EA) approved on March 15, 2018, the Finding of No Significant Impact (FONSI) issued on March 15, 2018, and other documents in the TxDOT project file. The EA, FONSI, and other documents in the TxDOT project file are available by contacting TxDOT at the address provided above or the TxDOT Dallas District Office at 4777 E. Highway 80, Mesquite, TX 75150; telephone (214) 320-6100.

15. Loop 9 from Interstate 35 East to Interstate 45 in Dallas and Ellis Counties, Texas. The proposed improvements would include constructing a six-lane new location frontage road system. The project would also construct intersections at major crossroads and grade separations at Interstate Highway 35 East and BNSF Railroad. The length of the proposed project is approximately 10 miles. The purpose of the proposed project is to provide a direct link from Interstate 35 East to Interstate 45 to serve the residents and businesses in the area. The actions by TxDOT and Federal agencies and the laws under which such actions were taken are described in the Final Environmental Assessment (EA) approved on September 28, 2017, Finding of No Significant Impact (FONSI) issued on November 16, 2017, and other documents in the TxDOT project file. The EA, FONSI, and other documents in the TxDOT project file are available by contacting TxDOT at the address provided above or the TxDOT Dallas District Office at 4777 E. Highway 80, Mesquite, TX 75150; telephone (214) 320-6100.

16. SH 121 from Collin County Outer Loop to County Road 635 in Collin County, Texas. The proposed improvements would include reconstructing and widening the existing two-lane undivided roadway to a rural four-lane divided highway from Collin County Outer Loop to north of County Road 635. Grade separation intersections are proposed at FM 455 and FM 2862. The length of the proposed project is approximately 9.52 miles. The purpose of the proposed project is to improve mobility, decrease congestion, accommodate population growth, and enhance safety for the traveling public, while upgrading the facility to current design standards. The actions by TxDOT and Federal agencies and the laws under which such actions were taken are described in the Final Environmental Assessment (EA) approved on January 19, 2018, Finding of No Significant Impact (FONSI) issued on January 19, 2018, and other documents in the TxDOT project file. The EA, FONSI, and other documents in the TxDOT project file are available by contacting TxDOT at the address provided above or the TxDOT Dallas District Office at 4777 E. Highway 80, Mesquite, TX 75150; telephone (214) 320-6100.

17. SH 310 and Interstate 45 (S.M. Wright, Phase IIB): SH 310 from Pennsylvania Avenue to north of Al Lipscomb Way; and Interstate 45 from Lenway Street to Good Latimer in Dallas County, Texas. The proposed improvements would include reconstructing the existing freeway-to-freeway connections to achieve greater connectivity with major Interstate 45 cross streets. The proposed project would realign S.M. Wright Parkway to connect exclusively to Cesar Chavez Boulevard between Pennsylvania Avenue and Al Lipscomb Way. The length of the proposed project is approximately .05 mile for SH 310 (S.M. Wright Parkway) and approximately 1.0 mile for IH 45. The purpose of the proposed project is to improve operability, connections, and mobility between Interstate 45 and major cross streets near S.M. Wright Parkway. The actions by TxDOT and Federal agencies and the laws under which such actions were taken are described in the Final Environmental Assessment (EA) approved on March 30, 2017, Finding of No Significant Impact (FONSI) issued on March 30, 2017, and other documents in the TxDOT project file. The EA, FONSI, and other documents in the TxDOT project file are available by contacting TxDOT at the address provided above or the TxDOT Dallas District Office at 4777 E. Highway 80, Mesquite, TX 75150; telephone (214) 320-6100.

18. US 77 from south of FM 66 to north of McMillan Street in Ellis County, Texas. The proposed improvements would include the addition of a new two-lane bridge on new alignment west of the existing viaduct, and the conversion of Elm Street and Monroe Street to a one-way couplet system. The length of the proposed project is approximately 1.2 miles. The purpose of the proposed project is to improve the safety of the US 77 viaduct and reduce congestion and improve mobility through downtown Waxahachie, Texas. The actions by TxDOT and Federal agencies and the laws under which such actions were taken are described in the Final Environmental Assessment (EA) approved on March 27, 2017, Finding of No Significant Impact (FONSI) issued on March 27, 2017, and other documents in the TxDOT project file. The EA, FONSI, and other documents in the TxDOT project file are available by contacting TxDOT at the address provided above or the TxDOT Dallas District Office at 4777 E. Highway 80, Mesquite, TX 75150; telephone (214) 320-6100.

19. US 377 Relief Route from approximately one mile south of SH 171 to approximately one mile north of SH 171 in Hood and Johnson Counties, Texas. The proposed project would construct a four-lane relief route west of US 377 and the City of Cresson. The length of the proposed project is approximately 3.02 miles. The purpose of the proposed project is to provide a long-term solution to identified traffic issues at the US 377 and SH 171 intersection. The actions by TxDOT and Federal agencies and the laws under which such actions were taken are described in the Final Environmental Assessment (EA) approved on August 3, 2017, Finding of No Significant Impact (FONSI) issued on September 20, 2017, and other documents in the TxDOT project file. The EA, FONSI, and other documents in the TxDOT project file are available by contacting TxDOT at the address provided above or the TxDOT Fort Worth District Office at 2501 SW Loop 820, Fort Worth, TX 76133; telephone (817) 370-6500.

20. FM 2218 from IH 69 to SH 36, Fort Bend County. The project widens the existing two-lane undivided roadway to a four-lane divided roadway with a raised grass median. FM 2218 will also be realigned just south of Longleaf Drive, with the former road ending in a cul-de-sac. The length of the project is approximately 3.7 miles. The purpose of the project is to accommodate existing and projected growth, and bring the roadway to current design standards between SH 36 and IH 69. The actions by TxDOT and Federal agencies and the laws under which such actions were taken are described in the Final Environmental Assessment (EA) approved on March 9, 2018, Finding of No Significant Impact (FONSI) issued on March 9, 2018, and other documents in the TxDOT project file. The EA, FONSI, and other documents in the TxDOT project file are available by contacting TxDOT at the address provided above or the TxDOT Houston District Office at 7600 Washington Avenue, Houston, Texas 77007; telephone (713) 802-5000.

21. Crabb River Road (Farm-to-Market Road 2759/Farm-to-Market Road 762), from 0.25 mile south of Sansbury Boulevard to the Lamar Consolidated Independent School District Secondary School Complex, in Fort Bend County. The project widens the existing two-lane undivided roadway to a four-lane divided roadway. The project is approximately 2.9 miles long. The purpose of the project is to improve mobility, alleviate traffic congestion, and improve safety. The actions by TxDOT and Federal agencies and the laws under which such actions were taken are described in the Final Environmental Assessment (EA) approved on March 20, 2017, Finding of No Significant Impact (FONSI) issued on March 20, 2017, and other documents in the TxDOT project file. The EA, FONSI, and other documents in the TxDOT project file are available by contacting TxDOT at the address provided above or the TxDOT Houston District Office at 7600 Washington Avenue, Houston, Texas 77007; telephone (713) 802-5000.

22. FM 2854, from Loop 336 to Interstate Highway 45, in Montgomery County. The project will reconstruct the existing two-lane, undivided facility to a four-lane roadway with a curb and gutter and a flush median. The project is approximately two miles long. The purpose of the proposed project is to improve safety and mobility, and reduce congestion for the travelling public by constructing a divided roadway and signalized intersections. The roadway improvements will accommodate anticipated future growth in the region by adding additional capacity needed, while providing accommodations for bicyclists and pedestrians through the construction of shared-use lanes and sidewalks, in accordance with FHWA and TxDOT guidelines and policies. The actions by TxDOT and Federal agencies and the laws under which such actions were taken are described in the Final Environmental Assessment (EA) approved on August 1, 2016, Finding of No Significant Impact (FONSI) issued on August 1, 2016, and other documents in the TxDOT project file. The EA, FONSI, and other documents in the TxDOT project file are available by contacting TxDOT at the address provided above or the TxDOT Houston District Office at 7600 Washington Avenue, Houston, Texas 77007; telephone (713) 802-5000.

23. McHard Road Extension, from Cullen Boulevard to Mykawa Road, Brazoria County. The project is an extension of McHard Road from Cullen Boulevard to Mykawa Road. McHard Road Extension will have an urban cross-section consisting of a four-lane divided, curb-and-gutter roadway. The project is approximately 3.45 miles long. The purpose of the project is to improve connectivity between Pearland Parkway and State Highway 288, improve mobility on FM 518/Broadway Street, and provide residents in the project area better access to amenities in the City of Pearland and Harris and Brazoria Counties. The actions by TxDOT and Federal agencies and the laws under which such actions were taken are described in the Final Environmental Assessment (EA) approved on July 7, 2017, Finding of No Significant Impact (FONSI) issued on July 7, 2017, and other documents in the TxDOT project file. The EA, FONSI, and other documents in the TxDOT project file are available by contacting TxDOT at the address provided above or the TxDOT Houston District Office at 7600 Washington Avenue, Houston, Texas 77007; telephone (713) 802-5000.

24. SH 105, from Mount Mariah Road to FM 149, Montgomery County. The project will widen SH 105 both to the north and south of the existing highway from an undivided, two-lane highway to a four-lane divided highway. The project length is approximately 6.2 miles. The purpose of the project is to improve traffic flow within the study area and larger region and reduce the number of traffic accidents from Mount Mariah Road to FM 149. The actions by TxDOT and Federal agencies and the laws under which such actions were taken are described in the Final Environmental Assessment (EA) approved on July 24, 2017, Finding of No Significant Impact (FONSI) issued on July 24, 2017, and other documents in the TxDOT project file. The EA, FONSI, and other documents in the TxDOT project file are available by contacting TxDOT at the address provided above or the TxDOT Houston District Office at 7600 Washington Avenue, Houston, Texas 77007; telephone (713) 802-5000.

25. Bulverde Road from Marshall Road to Wilderness Oak in Bexar County. The project would convert the existing two-lane roadway to a four-lane roadway with five-foot shoulders, curb and gutter, sidewalks and turn lanes. The actions by TxDOT and Federal agencies and the laws under which such actions were taken are described in the Final Environmental Assessment (EA) approved on July 20, 2016, Finding of No Significant Impact (FONSI) issued on July 20, 2016 and other documents in the TxDOT project file. The EA, FONSI, and other documents in the TxDOT project file are available by contacting TxDOT at the address provided above or the TxDOT San Antonio District Office at 4615 NW Loop 410, San Antonio, TX 78229; telephone (210) 615-5839.

26. I-10 West from FM 3351 (Ralph Fair Road) to La Cantera Parkway, Bexar County. The project would add one general-purpose lane and one High Occupancy Vehicle (HOV) lane in each direction of IH 10 from approximately 3,800 feet north of FM 3351 (Ralph Fair Rd.) to La Cantera Parkway. The project would transition to the two general-purpose lanes approximately 3,800 feet north of FM 3351 (Ralph Fair Rd.) and would tie into the three general-purpose lanes at La Cantera Parkway. In addition, a 12-ft wide auxiliary lane would be added to the IH 10 westbound main lanes between the westbound on-ramp from Dominion Drive to the westbound exit ramp to FM 3351 (Ralph Fair Rd.). The actions by TxDOT and Federal agencies and the laws under which such actions were taken are described in the Final Environmental Assessment (EA) approved on March 30, 2017, Finding of No Significant Impact (FONSI) issued on March 30, 2017 and other documents in the TxDOT project file. The EA, FONSI, and other documents in the TxDOT project file are available by contacting TxDOT at the address provided above or the TxDOT San Antonio District Office at 4615 NW Loop 410, San Antonio, TX 78229; telephone (210) 615-5839.

27. Loop 1604 from FM 1957 to FM 471 in Bexar County. The project would convert the existing four-lane divided roadway to a four-lane expressway, and would include the construction of the southbound Loop 1604 main lanes and frontage road, entrance and exit ramps, and three grade separations. The length of the proposed project is approximately 4.1 miles. The actions by TxDOT and Federal agencies and the laws under which such actions were taken are described in the Final Environmental Assessment (EA) approved on May 4, 2016, Finding of No Significant Impact (FONSI) issued on May 4, 2016 and other documents in the TxDOT project file. The EA, FONSI, and other documents in the TxDOT project file are available by contacting TxDOT at the address provided above or the TxDOT San Antonio District Office at 4615 NW Loop 410, San Antonio, TX 78229; telephone (210) 615-5839.

28. Loop 1604 from US 90 to FM 1957 in Bexar County. The project would convert the existing four-lane divided roadway to a four-lane expressway with continuous frontage roads. The project would also include the construction of grade separations at major intersections located within the project limits as well as a direct connector from southbound LP 1604 to eastbound US 90. The actions by TxDOT and Federal agencies and the laws under which such actions were taken are described in the Final Environmental Assessment (EA) approved on May 27, 2016, Finding of No Significant Impact (FONSI) issued on May 27, 2016 and other documents in the TxDOT project file. The EA, FONSI, and other documents in the TxDOT project file are available by contacting TxDOT at the address provided above or the TxDOT San Antonio District Office at 4615 NW Loop 410, San Antonio, TX 78229; telephone (210) 615-5839.

29. Quintana Road from Harmon Avenue to McKenna Avenue in Bexar County. The project includes roadway realignment, median, shared use path, turn lanes and drainage improvements. The actions by TxDOT and Federal agencies and the laws under which such actions were taken are described in the Final Environmental Assessment (EA) approved on June 22, 2017, Finding of No Significant Impact (FONSI) issued on June 22, 2017 and other documents in the TxDOT project file. The EA, FONSI, and other documents in the TxDOT project file are available by contacting TxDOT at the address provided above or the TxDOT San Antonio District Office at 4615 NW Loop 410, San Antonio, TX 78229; telephone (210) 615-5839.

30. SH 211 from FM 1957 to FM 471 in Bexar and Medina Counties. The project includes construction of a new 7.6 mile two-lane rural arterial roadway on new location. The actions by TxDOT and Federal agencies and the laws under which such actions were taken are described in the Final Environmental Assessment (EA) approved on July 14, 2017, Finding of No Significant Impact (FONSI) issued on July 14, 2017 and other documents in the TxDOT project file. The EA, FONSI, and other documents in the TxDOT project file are available by contacting TxDOT at the address provided above or the TxDOT San Antonio District Office at 4615 NW Loop 410, San Antonio, TX 78229; telephone (210) 615-5839.

Authority: 23 U.S.C. 139(l)(1).

Issued on: August 6, 2018.
Michael T. Leary,
Director, Planning and Program Development, Federal Highway Administration.

[FR Doc. 2018-17144 Filed 8-9-18; 8:45 am]

BILLING CODE 4910-22-P